EQUAL EMPLOYMENT OPPORTUNITY COMMISSION

Agency Information Collection Activity: Comment Request; Generic Clearance for the Collection of Qualitative Feedback on Agency Service Delivery

AGENCY: Equal Employment Opportunity Commission.

ACTION: Notice and request for comments.

SUMMARY: This notice announces that the U.S. Equal Employment Opportunity Commission (EEOC) is submitting a request for a three-year approval, under the Paperwork Reduction Act of 1995 (PRA), of a revision to the current Generic Clearance for the Collection of Qualitative Feedback on Agency Service Delivery that the Office of Management and Budget (OMB) previously approved. This collection is part of a Federal Government-wide effort to streamline the process to seek feedback from the public on service delivery.

DATES: Written comments on this notice must be submitted on or before August 2, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT:

For Office of Communications and Legislative Affairs: Caitlin McCartney, caitlin.mccartney@eeoc.gov, 1-202-921-2709.

For Office of Federal Operations: Sharon Halstead, sharon.halstead@eeoc.gov, 1-202-921-2832.

For Office of Field Programs: Katrina Grider, katrina.grider@eeoc.gov, 1-202-921-2919.

For Office of National External Engagement Programs: Kessela Reis, kessela.reis@eeoc.gov, 1-917-596-6032.

For Office of State, Local & Tribal Programs: James Yao, james.yao@eeoc.gov, 1-202-921-2886.

SUPPLEMENTARY INFORMATION:

Title: Generic Clearance for the Collection of Qualitative Feedback on Agency Service Delivery.

Abstract: The proposed information collection activity will garner qualitative customer and stakeholder feedback in an efficient, timely manner, in accordance with the government's commitment to improving service delivery. By qualitative feedback, we mean information that provides useful insights on perceptions and opinions, but not statistical surveys that yield quantitative results that can be generalized to the population of study. This feedback will provide insights into customer or stakeholder perceptions, experiences, and expectations, provide an early warning of issues with service, or focus attention on areas where communication, training, or changes in operations might improve delivery of products or services. These collections will allow for ongoing, collaborative, and actionable communications between the Agency and its customers and stakeholders. It will also allow feedback to contribute directly to the improvement of program management.

The solicitation of feedback will target areas such as: timeliness, appropriateness, accuracy of information, course materials, course instructor, courtesy, efficiency of service delivery, and resolution of issues with service delivery. Responses will be assessed to plan and inform efforts to improve or maintain the quality of service offered to the public. If this information is not collected, vital feedback from customers and stakeholders on the Agency's services will be unavailable.

The Agency will only submit a collection for approval under this generic clearance if it meets the following conditions:

• The collections are voluntary;

• The collections are low-burden for respondents (based on considerations of total burden hours, total number of respondents, or burden-hours per respondent) and are low-cost for both the respondents and the Federal Government;

• The collections are the only way to collect information; there are no alternative existing sources;

• The collections are noncontroversial and do not raise issues of concern to other Federal agencies;

• Any collection is targeted to the solicitation of opinions from respondents who have experience with the program or may have experience with the program;

• Personally identifiable information (PII) is collected only to the extent necessary and is not retained;

• Information gathered will be used only internally for general service improvement and program management purposes and is not intended for release outside of the agency;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential nonresponse bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature.

Pursuant to the PRA and OMB regulation 5 CFR 1320.8(d)(1), the EEOC solicited public comment on its intent to seek a three-year approval of this revised collection to enable it to: (1) Evaluate whether the proposed collection of information is necessary for the proper performance of the EEOC's functions, including whether the information will have practical utility; (2) Evaluate the accuracy of the EEOC's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses. No comments were received in response to the 60-day notice published in the Federal Register on March 22, 2024 (89 FR 20473).

In addition to clearance hours for the previously approved customer feedback forms, the EEOC is also requesting an additional 1,000 clearance hours as a reserve to cover any additional feedback forms that may be developed over the next three years for new trainings offered by the EEOC. The EEOC anticipates any new potential feedback forms will be similar in length and content to existing feedback forms. The EEOC plans to seek clearance for the additional hours so the EEOC can use the existing OMB clearance number if the need arises for additional training and feedback forms.

Type of survey | Respondents | Number of respondents | Number of responses/ respondent | Participation time | Response burden (in hours)
Questionnaire: FEPA-TERO National Training Conference Survey. | Employees of state and local Fair Employment Practices Agencies (FEPAs) and Tribal Employment Rights Offices (TEROs). | 550 | 1 | 3 minutes per response | 27.5
Questionnaire: EXCEL Training Conference Evaluation Survey. | Private sector and state and local government EEO managers, supervisors, practitioners, HR professionals, attorneys, ADR specialists and other interested parties. | 310 | 1 | 10 minutes per response | 52
Questionnaire: EEOC Training Institute Respectful Workplaces Course Evaluation. | Private sector and state and local government managers and employees. | 5,000 | 1 | 5 minutes per response | 417
Questionnaire: EEOC Training Institute Course Evaluation. | Private sector human resources staff, business owners, managers, and supervisors, and state and local government employees. | 6,000 | 1 | 2 minutes per response | 200
Questionnaire: EEOC In-Person Workshop Evaluation Survey | Private sector and state and local government human resources staff, business owners, managers, supervisors, employment agency staff, union officials, attorneys, and others interested in EEO issues. | 2,170 | 1 | 2 minutes per response | 72
Questionnaire: EEOC Virtual Workshop Evaluation Survey. | Private sector and state and local government human resources staff, business owners, managers, supervisors, employment agency staff, union officials, attorneys, and others interested in EEO issues. | 2,170 | 1 | 2 minutes per response | 72
Questionnaire: National External Engagement Program Survey. | Attendees at Outreach and Training educational events. | 2,500 | 1 | 5 minutes per response | 208
Questionnaire: Federal Course and Customer Specific Training Feedback Survey. | Non-federal learners in federal courses and customized customer-specific training. | 225 | 1 | 2 minutes per response | 7.5
Questionnaire: Federal Education Consortium Registration. | Non-federal Education Consortium registrants. | 50 | 1 | 2 minutes per response | 2.0
Questionnaire: Request for Federal Training and Outreach services. | Non-federal entities requesting outreach or fee-based training. | 20 | 1 | 2 minutes per response | <1
EEOC Website Satisfaction Survey. | Individuals or Households. | 3,270 | 1 | 2 minutes per response | 109
Future Training Assessments. | Future Training Attendees. | 1,000 | 1 | 5 minutes per response | 83
Total |  | 23,265 |  |  | 1,250

Overview of Information Collection

OMB Number: 3046-0048.

Type of Review: Revision of a currently approved collection.

Affected Public: Individuals and Households; Businesses and Organizations; State, Local or Tribal Governments.

Average Expected Annual Number of Activities: Approximately 12 activities.

Respondents: 23,265.

Annual Responses: 23,265.

Frequency of Response: Once per respondent.

Average Minutes per Response: 3.2.

Annual Burden Hours: 1,250.

Dated: January 27, 2024
For the Commission.
Charlotte A. Burrows,
Chair.

Editorial Note: This document was received for publication by the Office of the Federal Register on June 28, 2024.

[FR Doc. 2024-14625 Filed 7-2-24; 8:45 am]

BILLING CODE 6570-01-P